FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the application for participation in the National Flood Insurance Program (NFIP).

SUPPLEMENTARY INFORMATION: The NFIP is authorized by Public Law 90-448 (1968) and expanded by Public Law 93-234 (1973). Communities must make application for eligibility in the program by submitting the items listed on the enclosed “prerequisites for the sale of flood insurance” which is taken from section 59.22 CFR 44 of the NFIP regulations. Section 201 of the Flood Disaster Protection Act of 1973 requires all flood-prone communities throughout the country to apply for participation one year after their flood prone identification or submit to the prohibition of certain types of Federal and Federally-related financial assistance for use in their floodplains.

Collection of Information

Title: Application for Participation in the National Flood Insurance Program.

Type of Information Collection: Extension of a currently approved collection.

OMB Number: 3067-0020.

Form Number(s): FEMA Form 81-64.

Abstract: The NFIP provides flood insurance to communities that apply for participation and make a commitment to adopt and enforce land use control measures that are designed to protect development from future flood damages. The application form will enable FEMA to continue to rapidly process new community applications and to thereby more quickly provide flood insurance protection to the residents of the communities. Participation in the NFIP is mandatory in order for flood related Presidentially-declared communities to receive Federal disaster assistance.

Affected Public: State, Local or Tribal Governments.

Estimated Total Annual Burden Hours: 400 hours.

Estimated Cost: The estimated annual cost to the government is $21,000 for printing and mailing the forms to regional and state offices.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact William Lesser, Program Specialist, Federal Insurance and Mitigation Administration, (202) 646-2807 for additional information. You may contact Ms. Anderson for copies of the proposed collection of information at telephone number (202) 646-2625 or facsimile number (202) 646-3347 or e-mail address: information collections@fema.gov.

Dated: July 30, 2002.
Reginald Trujillo,
Branch Chief, Program Services and Systems Branch, Facilities Management and Services Division, Administration and Resource Planning Directorate.

[FR Doc. 02-19755 Filed 8-5-02; 8:45 am]

BILLING CODE 6718-01-P